FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/Address | Date Reissued
017992NF | A&C Import Export Services, Inc., 6317 18th Avenue, Brooklyn, NY 11209 | July 12, 2006.
019534N | AICS, Inc. dba Airwaves International Cargo Services, 12333 S. Van Ness Avenue #107, Hawthorne, CA 90250 | June 23, 2006.
018946F | AMF Global Transportation, Inc., 2681 Coyle Avenue, Elk Grove Village, IL 60007 | May 31, 2006.
019248N | Allcargo Net, Inc., 1900 NW. 97th Avenue, Miami, FL 33172 | June 11, 2006.
016671F | Lee Ann Tyus dba Lee Ann Tyus Maritime Services, 9648 Bailey Road, Cornelius, NC 28031 | June 14, 2006.
019296N | Ours Logis, Inc., 1139 E. Dominquez Street Unit L, Carson, CA 90746 | June 12, 2006.
015385N | Plane Cargo Inc. dba Marine Cargo, 753 Port America Place, Suite 102, Grapevine, TX 76051 | June 8, 2006.
019794N | Via Mat International (USA) Inc., 130 Sheridan Blvd., Inwood, NY 11096 | June 30, 2006.

Sandra L. Kusumoto,
Director, Bureau of Certification and Licensing.

[FR Doc. E6-12987 Filed 8-8-06; 8:45 am]

BILLING CODE 6730-01-P